DEPARTMENT OF COMMERCE

National Oceanic and Atmospheric Administration

Public Comment of the Office of Ocean Exploration and Research

AGENCY: Office of Oceanic and Atmospheric Research (OAR), National Oceanic and Atmospheric Administration (NOAA), Department of Commerce (DOC).

ACTION: Notice of public comment.

SUMMARY: The National Ocean Mapping, Exploration, and Characterization (NOMEC) Council and the Interagency Working Group on Ocean Exploration and Characterization (IWG-OEC) request public comment from all interested parties on the draft Strategic Priorities for Ocean Exploration and Characterization of the United States Exclusive Economic Zone (“Priorities Report”). The Priorities Report was developed per the National Strategy for Ocean Mapping, Exploring, and Characterizing the United States Exclusive Economic Zone (“National Strategy”) and as detailed in the NOMEC Implementation Plan (“Implementation Plan”). To help ensure implementation of the National Strategy continues to be informed by all sectors, the NOMEC Council and IWG-OEC issue this notice to seek public comment on the specific thematic and geographic priorities for ocean exploration and characterization that were identified by Federal subject-matter experts.

The NOMEC Council and IWG-OEC issue this notice on behalf of the Ocean Science and Technology Subcommittee of the Ocean Policy Committee, which is chaired by the Office of Science and Technology Policy (OSTP) and the Council on Environmental Quality (CEQ).

DATES: Comments must be received by May 2, 2022.

ADDRESSES: A copy of the draft Priorities Report may be downloaded or viewed at: https://www.noaa.gov/nomec/IWG-OEC.

A copy of the National Strategy may be downloaded or viewed at: https://www.noaa.gov/sites/default/files/2021-08/NOMEC%20Strategy.pdf.

A copy of the Implementation Plan may be downloaded or viewed at: https://www.noaa.gov/sites/default/files/2021-11/210107-FINALNOMECImplementationPlan-Clean.pdf.

Responses should be submitted via email to caitlin.adams@noaa.gov.

Instructions: Response to this notice is voluntary. Include “Public Comment on Priorities Report for Exploration and Characterization” in the subject line of the message. If applicable, clearly indicate the section and page number to which submitted comments pertain. All submissions must be in English. Email attachments will be accepted in plain text, Microsoft Word, or Adobe PDF formats only. Each individual or institution is requested to submit only one response.

Responses to this notice may be posted without change on a Federal website. All personal identifying information (e.g., name, address, etc.), confidential business information, or otherwise sensitive information submitted voluntarily by the sender will become publicly accessible. NOAA, therefore, requests that no business proprietary information, copyrighted information, or personally identifiable information be submitted in response to this notice. Anonymous comments will be accepted. Please note that the U.S. Government will not pay for response preparation, or for the use of any information contained in the response.

FOR FURTHER INFORMATION CONTACT: IWG-OEC Co-Chairs: Rachel Medley, NOAA, rachel.medley@noaa.gov, 301-789-3075; Dr. Amanda Demopoulos, U.S. Geological Survey, ademopoulos@usgs.gov, 352-264-3490; Mark Mueller, Bureau of Ocean Energy Management, mark.mueller@boem.gov, 703-787-1089.

SUPPLEMENTARY INFORMATION: The NOMEC Council and IWG-OEC seek public comment for development of thematic and geographic ocean exploration and characterization priorities in accordance with the Implementation Plan of the National Strategy. In coordination with the Administrator of NOAA, this notice is issued on behalf of the Ocean Science and Technology Subcommittee of the Ocean Policy Committee, which is co-chaired by the Director of the OSTP and the Chair of the CEQ. The Priorities Report is pursuant to the Presidential Memorandum on “Ocean Mapping of the United States Exclusive Economic Zone and the Shoreline and Nearshore of Alaska” (84 FR 64699; Nov. 19, 2020).

The IWG-OEC has developed a draft report on Strategic Priorities for Ocean Exploration and Characterization of the United States Exclusive Economic Zone. This notice solicits comment from stakeholders, including academia, private industry, and other relevant institutions regarding thematic and geographic priorities. The public comment provided in response to this notice will inform finalization of the report.

David Holst,
Chief Financial and Administrative Officer, Office of Oceanic and Atmospheric Research, National Oceanic and Atmospheric Administration.

[FR Doc. 2022-05955 Filed 3-21-22; 8:45 am]

BILLING CODE 3510-KA-P